NUCLEAR REGULATORY COMMISSION

Agency Information Collection Activities: Proposed Collection; Comment Request

AGENCY: U.S. Nuclear Regulatory Commission (NRC).

ACTION: Notice of pending NRC action to submit an information collection request to OMB and solicitation of public comment.

SUMMARY: The NRC is preparing a submittal to OMB for review of continued approval of information collections under the provisions of the Paperwork Reduction Act of 1995 (44 U.S.C. Chapter 35).

Information pertaining to the requirement to be submitted:

1. The title of the information collection: 10 CFR part 75—Safeguards on Nuclear Material, Implementation of US/IAEA Agreement

2. Current OMB approval number: 3150-0055

3. How often the collection is required: Installation information is submitted upon written notification from the Commission. Changes are submitted as they occur. Nuclear material accounting and control information is submitted in accordance with specified instructions.

4. Who is required or asked to report: All persons licensed or certified by the Commission or Agreement States to possess source or special nuclear material at an installation specified on the U.S. eligible facilities list as determined by the Secretary of State or his designee and filed with the Commission, as well as holders of construction permits and persons who intend to receive source material.

5. The number of annual respondents: Seven, one of which perform the reporting and recordkeeping and the other six perform the recordkeeping only. The NRC-licensed facilities selected for inspection will be reporting or updating design information. This one facility and the six facilities selected pursuant to a separate protocol will maintain transfer and material balance records, but reporting to the IAEA will be through the U.S. State system (Nuclear Materials Management and Safeguards System).

6. The number of hours needed annually to complete the requirement or request: 2,800 (.2 hours for reporting and 2,800 hours for recordkeeping [400 hours per recordkeeper]).

7. Abstract: 10 CFR part 75 establishes requirements to implement the agreement between the United States and the International Atomic Energy Agency (IAEA). Under that agreement, NRC is required to collect information and make it available to the IAEA. Currently, the IAEA has selected and is inspecting two NRC-licensed facilities pursuant to 10 CFR 75.41.

Submit, by May 23, 2005 comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room located at One White Flint North, 11555 Rockville Pike, Rockville, MD. OMB clearance requests are available at the NRC Worldwide Web site (http://www.nrc.gov/public-involve/doc-comment/omb/index.html). The document will be available on the NRC home page site for 60 days after the signature date of this notice.

Comments and questions about the information collection requirements may be directed to the NRC Clearance Officer, Brenda Jo. Shelton, U.S. Nuclear Regulatory Commission, T-6 E 6, Washington, DC 20555-0001, by telephone at (301) 415-7233, or by Internet electronic mail at infocollects@nrc.gov.

Dated at Rockville, Maryland, this 14th day of March 2005.
For the Nuclear Regulatory Commission.
Brenda Jo. Shelton,
NRC Clearance Officer, Office of the Chief Information Officer.

[FR Doc. 05-5680 Filed 3-22-05; 8:45 am]

BILLING CODE 7590-01-P